DEPARTMENT OF STATE

[Public Notice: 10212]

30-Day Notice of Proposed Information Collection: Electronic Medical Examination for Visa Applicant

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to January 12, 2018.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to S. Taylor at PRA_Burdencomments@state.gov.

SUPPLEMENTARY INFORMATION:

• Title of Information Collection: Electronic Medical Examination for Visa Applicant.

• OMB Control Number: None.

• Type of Request: New Collection.

• Originating Office: CA/VO/L/.

• Form Number: DS-7794.

• Respondents: Visa Applicants and Panel Physicians.

• Estimated Number of Respondents: 684,589.

• Estimated Number of Responses: 684,589.

• Average Time per Response: 1 hour.

• Total Estimated Burden Time: 684,589 annual hours.

• Frequency: Once per respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection: This electronic collection records medical information necessary to determine whether visa applicants have medical conditions affecting the applicant's eligibility for a visa.

Methodology: Approved panel physicians will be granted access to an eMedical system by the Department of State, to conduct medical examinations for visa eligibility determinations. During the initial rollout, some immigrant visa applicants with a completed and submitted DS-260, Application for Immigrant Visa and Alien Registration will have their medical exam results submitted to the Department via the eMedical system. The panel physician will input the exam information into the eMedical portal and it will be transmitted to the Department for visa adjudication and retained in the Department's systems. The Department anticipates a full rollout of the electronic medical report by the end of 2018. During the transition to eMedical, some applicants' medical exams will be completed via paper forms.

In the paper version of the forms (OMB 1405-0113), the Department of Homeland Security (DHS) usually provides the results of visa applicant medical examinations to the Centers for Disease Control and Prevention (CDC). As the Department transitions to the electronic environment, the information from the medical examinations will be provided directly to CDC and DHS for uses relevant to their respective roles in the admission process and statutory missions. This change will promote efficiency in the process.

Karin King,
Acting Deputy Assistant Secretary, Bureau of Consular Affairs, Department of State.

[FR Doc. 2017-26860 Filed 12-12-17; 8:45 am]

BILLING CODE 4710-06-P